DEPARTMENT OF THE INTERIOR

Bureau of Land Management

[AK-1430-EU; A-033531, AA-086554]

Notice of Realty Action: Direct Sale of Reversionary Interest of Recreation and Public Purposes Patent; Eagle River, AK; Correction

AGENCY: Bureau of Land Management, Interior.

ACTION: Notice of Realty Action; Correction.

SUMMARY: The Bureau of Land Management published a document in the Federal Register of February 22, 2007, concerning the direct sale of the reversionary interest held by the United States in 3.9 acres of land located in Eagle River, Alaska. The document contained an accurate legal description, but inaccurate lot numbers in the SUPPLEMENTARY INFORMATION.

FOR FURTHER INFORMATION CONTACT: Robert Lloyd, BLM Anchorage Field Office, (907) 267-1246.

Correction

In the Federal Register of February 22, 2007, in FR Doc. E7-2953, on page 8010, in the first and second column, correct “Lots 7 and 11” to “Lots 7 and 10” as follows:

The subject lands, lots 7 and 10, comprise two of the 13 lots owned by the church in this location. Lots 7 and 10 are the only lots that contain a reversionary clause. The church has fee title to the remaining properties that surround lots 7 and 10.

Dated: February 22, 2007.
Mike Zaidlicz,
Acting Field Manager.

[FR Doc. 07-1142 Filed 3-9-07; 8:45 am]

BILLING CODE 4310-JA-M